ENVIRONMENTAL PROTECTION AGENCY

[FRL-9191-4]

Proposed Cercla Administrative Order On Consent for the Kerber Creek Site, Saguache County, CO

AGENCY: Environmental Protection Agency (EPA).

ACTION: Notice and request for public comment.

SUMMARY: In accordance with the requirements of section 122 (i) of the Comprehensive Environmental Response, Compensation, and Liability Act, as amended (“CERCLA”), 42 USC 9622(I), notice is hereby given of a proposed Administrative Order on Consent (“AOC”) under sections 104, 106, 107, and 122 of CERCLA, 42 U.S.C. 9604, 9606, 9607, and 9622, between EPA and Trout Unlimited, Inc. (“Trout Unlimited”) regarding the Kerber Creek Site located in the Rio Grande Basin near Villa Grove, Saguache County, Colorado. The property which is the subject of this proposed AOC is all areas to which hazardous substances and/or pollutants or contaminants, have come to be located along the approximately 17 miles of Kerber Creek stretching from the Bonanza town site, below the Forest Service boundary, and extending to the town of Villa Grove. This AOC requires that Trout Unlimited perform the following activities: Develop a watershed plan, remove tailings with elevated concentrations of metals from the streamside, perform phytostablilization, revegetate sites, stabilize stream banks, and monitor sinuosity, width, depth, density of microinvertebrates and fishery, upland vegetation cover, stability of stream banks concentration of metals, and habitat trends, all with respect to Kerber Creek. The performance of this work shall be approved and monitored by EPA.

Opportunity for Comment: For thirty (30) days following the date of publication of this notice, the Agency will consider all comments received on the AOC and may modify or withdraw its consent to the AOC, if comments received disclose facts or considerations which indicate that the settlement is inappropriate, improper, or inadequate. The Agency's response to any comments received will be available for public inspection at the EPA Superfund Record Center, 1595 Wynkoop Street, 2nd Floor, in Denver, Colorado.

DATES: Comments must be submitted on or before September 20, 2010.

ADDRESSES: The proposed settlement and additional background information relating to the settlement are available for public inspection at the EPA Superfund Records Center, 1595 Wynkoop Street, 2nd Floor, in Denver, Colorado. Comments and requests for a copy of the proposed settlement should be addressed to William G. Ross, Enforcement Specialist/SEE (8ENF-RC), Technical Enforcement Program, U.S. Environmental Protection Agency, 1595 Wynkoop Street, Denver, Colorado 80202-1129, and should reference the Kerber Creek Site AOC in Saguache County, Colorado.

FOR FURTHER INFORMATION CONTACT: William G. Ross, Enforcement Specialist/SEE (8ENF-RC), Technical Enforcement Program, U.S. Environmental Protection Agency, 1595 Wynkoop Street, Denver, Colorado 80202-1129, (303) 312-6208.

Dated: August 12, 2010.
Sharon Kercher,
Acting Assistant Regional Administrator, Office of Enforcement, Compliance and Environmental Justice, Region 8.

[FR Doc. 2010-20580 Filed 8-18-10; 8:45 am]

BILLING CODE 6560-50-P